ENVIRONMENTAL PROTECTION AGENCY

[EPA-R01-OW-2019-0376; FRL-9997-55-Region 1]

Program Requirement Revisions Related to the Public Water System Supervision Programs for the State of Connecticut and the State of New Hampshire

AGENCY: Environmental Protection Agency (EPA).

ACTION: Notice.

SUMMARY: Notice is hereby given that the State of Connecticut and the State of New Hampshire are in the process of revising their respective approved Public Water System Supervision (PWSS) programs to meet the requirements of the Safe Drinking Water Act (SDWA).

DATES: All interested parties may request a public hearing for any of the above EPA determinations. A request for a public hearing must be submitted by September 3, 2019 to the Regional Administrator at the address shown below. Frivolous or insubstantial requests for a hearing may be denied by the Regional Administrator.

However, if a substantial request for a public hearing is made by this date, a public hearing will be held. If no timely and appropriate request for a hearing is received, and the Regional Administrator does not elect to hold a hearing on his/her own motion, this determination shall become final and effective September 3, 2019.

Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 a.m. and 4:00 p.m., Monday through Friday, at the following office(s):

U.S. Environmental Protection, Water Division, 5 Post Office Square, Suite 100, Boston, MA 02109-3912

For state-specific documents:

Connecticut Department of Public Health, Drinking Water Section, 410 Capital Avenue, Hartford, CT 06134

New Hampshire Department of Environmental Services, Drinking Water and Groundwater Bureau, 29 Hazen Drive, Concord, NH 03302-0095

FOR FURTHER INFORMATION CONTACT: Jeri Weiss, U.S. EPA-New England, Water Division, (telephone 617-918-1568).

SUPPLEMENTARY INFORMATION: The State of Connecticut has adopted a drinking water regulation for the Long Term 2 Enhanced Surface Water Treatment Rule (71 FR 654) promulgated on January 5, 2006. After review of the submitted documentation, the Environmental Protection Agency (EPA) has determined that the State of Connecticut's Long Term 2 Enhanced Surface Water Treatment Rule is no less stringent than the corresponding federal regulations, with the understanding that the state regulation includes three typographical errors that the state has agreed to correct. EPA considers these issues to be minor and should not preclude granting the State of Connecticut primacy for reasons detailed below.

Connecticut regulation Section 19-13-B102(i)(4)(A)(ii). Under the federal regulation, water systems must collect at least three samples for Cryptosporidium analysis. Failure to do so is referred to as a “Tier 2 violation,” and the water system must notify the public of this violation. The State regulation inadvertently does not include this language due to an erroneous reference. However, the federal requirement sets a specific timeframe for water systems to collect these samples, and as this deadline has passed, this requirement is no longer relevant, and all Connecticut water systems have already complied with the sampling requirement. Therefore, the State's omission of this language does not affect how the water is being treated or how the public is being notified.

Connecticut regulation Section 19-13-B102 (j)(13)(E)(i). The State regulation includes a typographical error, where the term “2 log” is indicated rather than “2.0 log.” There is no mathematical difference between these two values, and as water systems use a pre-determined table in the federal regulations to calculate disinfection requirements, the difference between the State and federal regulations is not relevant.

Connecticut regulation Section 19-13-B102 (j)(13)(E)(ii)(II)(5). This State provision has a typographical error, where the formula LRV = LOG10(Cf) × LOG10(Cp) should instead be LRV = LOG10(Cf)−LOG10(Cp). The federal regulation includes this formula to explain how disinfection requirements are calculated. However, water systems do not use this calculation, as they instead rely on tables in the federal regulation to determine disinfection requirements.

These typographical changes are only required to ensure consistency with the federal regulation; however, they do not, in any realistically substantive manner, affect the stringency of, enforceability of, or liability obligations contained in the state rule and required by the corresponding federal regulation. Therefore, EPA intends to approve Connecticut's PWSS program revision for this rule.

The State of New Hampshire has adopted drinking water regulations for the Consumer Confidence Report Rule (63 FR 44511) promulgated on August 19, 1998, the Interim Enhanced Surface Water Treatment Rule (63 FR 69478-69521) promulgated on December 16, 1998, the Long Term 1 Enhanced Surface Water Treatment Rule (67 FR 1812) promulgated on January 14, 2002, the Long Term 2 Enhanced Surface Water Treatment Rule (71 FR 654) promulgated on January 5, 2006, and the Radionuclides Rule (66 FR 76708) promulgated on December 7, 2000. After review of the submitted documentation, EPA has determined that the state of New Hampshire's Rules is no less stringent than the corresponding federal regulations. In addition, EPA's primary enforcement responsibility regulations require states that accept electronic documents to have adopted regulations consistent with 40 CFR part 3 (Electronic reporting). New Hampshire accepts electronic documents and is in the process of adopting additional regulations that will supplement the State's already existing legal authority under the State's Uniform Electronic Transactions Act. Therefore, EPA intends to approve New Hampshire's PWSS program revision for these five rules.

Authority: Section 1401 (42 U.S.C. 300f) and Section 1413 (42 U.S.C. 300g-2) of the Safe Drinking Water Act, as amended (1996), and (40 CFR 142.10) of the National Primary Drinking Water Regulations.

Dated: July 23, 2019.
Deborah A. Szaro,
Acting Regional Administrator, EPA Region 1—New England.

[FR Doc. 2019-16575 Filed 8-1-19; 8:45 am]

BILLING CODE 6560-50-P